Proclamation 9452 of May 20, 2016

Armed Forces Day, 2016

By the President of the United States of America

A Proclamation

The Soldiers, Sailors, Airmen, Marines, and Coast Guardsmen who comprise our Armed Forces have defended our Nation and the values for which we stand for generations, answering the call to give up the comforts of civilian life, do whatever it takes to keep us safe, and go wherever they are needed. On Armed Forces Day, we offer our most profound gratitude to the patriots—at home and abroad—who have risked their lives so our people can live knowing the fullest measure of freedom and security.

With courage and honor, our men and women in uniform embody the everlasting responsibility we have to each other and to future generations by giving of themselves to ensure the preservation of our Republic and secure peace throughout the world. It is because of them and the values they represent that people across the globe look to the United States of America in moments of desperation and despair. For the relief they offer, the stability they provide, and the hope they inspire, we owe our service members an extraordinary debt—one we will never stop working to repay.

Our country's strength is measured by how we support and take care of our troops. Humbled by the sacrifices they make—and by the strength of their families—we stand in support of those who don our uniform and strive to ensure they have every opportunity to pursue the American dream they defend. They give their best for America, and they deserve the best from us. On this day, let us salute these brave Americans and all those who laid down their lives for our safety, and each day, let us remember that we live knowing liberty because of our Armed Forces.

NOW, THEREFORE, I, BARACK OBAMA, President of the United States of America, and Commander in Chief of the Armed Forces of the United States, continuing the precedent of my predecessors in office, do hereby proclaim the third Saturday of each May as Armed Forces Day.

I direct the Secretary of Defense on behalf of the Army, Navy, Air Force, and Marine Corps, and the Secretary of Homeland Security on behalf of the Coast Guard, to plan for appropriate observances each year, with the Secretary of Defense responsible for encouraging the participation and cooperation of civil authorities and private citizens.

I invite the Governors of the United States and its Territories, and appropriate officials of all units of government, to provide for the observance of Armed Forces Day within their jurisdiction each year in an appropriate manner designed to increase public understanding and appreciation of the Armed Forces of the United States. I also invite veterans, civic leaders, and organizations to join in the observance of Armed Forces Day.

Finally, I call upon all Americans to display the flag of the United States at their homes on Armed Forces Day, and I urge citizens to learn more about military service by attending and participating in the local observances of the day. I also encourage Americans to volunteer at organizations that provide support to our troops and their families.

Proclamation 9283 of May 15, 2015, is hereby superseded.

IN WITNESS WHEREOF, I have hereunto set my hand this twentieth day of May, in the year of our Lord two thousand sixteen, and of the Independence of the United States of America the two hundred and fortieth.

[FR Doc. 2016-12560

Filed 5-24-16; 11:15 am]

Billing code 3295-F6-P